DEPARTMENT OF ENERGY

Federal Energy Regulatory Commission

Combined Notice of Filings #1

Take notice that the Commission received the following exempt wholesale generator filings:

Docket Numbers: EG21-161-000.

Applicants: Hubbard Wind, LLC.

Description: Notice of Self-Certification of Exempt Wholesale Generator Status of Hubbard Wind, LLC.

Filed Date: 5/27/21.

Accession Number: 20210527-5234.

Comments Due: 5 p.m. ET 6/17/21.

Take notice that the Commission received the following electric rate filings:

Docket Numbers: ER10-1818-026; ER10-1817-023; ER10-1819-030; ER10-1820-033.

Applicants: Public Service Company of Colorado, Southwestern Public Service Company, Northern States Power Company a Minnesota corporation, Northern States Power Company a Wisconsin corporation.

Description: Notice of Change in Status of Public Service Company of Colorado, et al.

Filed Date: 5/27/21.

Accession Number: 20210527-5296.

Comments Due: 5 p.m. ET 6/17/21.

Docket Numbers: ER20-1210-003.

Applicants: Hazleton Generation LLC.

Description: Report Filing: Reactive Service Tariff Refund Report to be effective N/A.

Filed Date: 5/27/21.

Accession Number: 20210527-5110.

Comments Due: 5 p.m. ET 6/17/21.

Docket Numbers: ER21-1047-002.

Applicants: Southwestern Public Service Company.

Description: Tariff Amendment: SPS-GSEC-RBEC IA-Faria 724—Supplemental Filing to be effective 7/26/2021.

Filed Date: 5/27/21.

Accession Number: 20210527-5194.

Comments Due: 5 p.m. ET 6/17/21.

Docket Numbers: ER21-1401-002.

Applicants: Northern States Power Company, a Minnesota corporation, Northern States Power Company, a Wisconsin corporation.

Description: Tariff Amendment: 2021 Interchange Agreement Annual Filing-Refile to be effective 1/1/2021.

Filed Date: 5/27/21.

Accession Number: 20210527-5184.

Comments Due: 5 p.m. ET 6/17/21.

Docket Numbers: ER21-1652-001.

Applicants: Public Service Company of Colorado.

Description: Tariff Amendment: 2021-05-27 OATT-Transmn Svc Study Filing-Amnd to be effective 7/26/2021.

Filed Date: 5/27/21.

Accession Number: 20210527-5158.

Comments Due: 5 p.m. ET 6/17/21.

Docket Numbers: ER21-1813-002.

Applicants: Yellow Pine Energy Center I, LLC.

Description: Tariff Amendment: Second Amendment to Yellow Pine Energy Center I, LLC App for MBR Authorization to be effective 5/28/2021.

Filed Date: 5/27/21.

Accession Number: 20210527-5067.

Comments Due: 5 p.m. ET 6/17/21.

Docket Numbers: ER21-1814-002.

Applicants: Yellow Pine Energy Center II, LLC.

Description: Tariff Amendment: Second Amendment to Yellow Pine Energy Center II, LLC App for MBR Authorization to be effective 5/28/2021.

Filed Date: 5/27/21.

Accession Number: 20210527-5072.

Comments Due: 5 p.m. ET 6/17/21.

Docket Numbers: ER21-1990-001.

Applicants: Blackwell Wind Energy, LLC.

Description: Tariff Amendment: Blackwell Wind Energy, LLC Amendment to the Application for MBR Authorization to be effective 7/24/2021.

Filed Date: 5/27/21.

Accession Number: 20210527-5219.

Comments Due: 5 p.m. ET 6/17/21.

Docket Numbers: ER21-2003-000.

Applicants: PJM Interconnection, L.L.C.

Description: § 205(d) Rate Filing: Original WMPA, SA No. 6072; Queue No. AF2-293 to be effective 5/4/2021.

Filed Date: 5/26/21.

Accession Number: 20210526-5210.

Comments Due: 5 p.m. ET 6/16/21.

Docket Numbers: ER21-2004-000.

Applicants: El Paso Electric Company.

Description: § 205(d) Rate Filing: Service Agreement No. 354, Newman 6 Large Generator Interconnection Agreement to be effective 5/5/2021.

Filed Date: 5/26/21.

Accession Number: 20210526-5211.

Comments Due: 5 p.m. ET 6/16/21.

Docket Numbers: ER21-2005-000.

Applicants: Hickory Park Solar, LLC.

Description: Baseline eTariff Filing: Application For Market Based Rate Authority to be effective 7/9/2021.

Filed Date: 5/26/21.

Accession Number: 20210526-5219.

Comments Due: 5 p.m. ET 6/16/21.

Docket Numbers: ER21-2007-000.

Applicants: Southwest Power Pool, Inc.

Description: Compliance filing: Central Nebraska Pre-Filing Stipulation and Offer of Settlement to be effective N/A.

Filed Date: 5/27/21.

Accession Number: 20210527-5064.

Comments Due: 5 p.m. ET 6/17/21.

Docket Numbers: ER21-2009-000.

Applicants: PJM Interconnection, L.L.C.

Description: § 205(d) Rate Filing: Amendment to Service Agreement No. 5817; Queue No. AF2-085 to be effective 9/15/2020.

Filed Date: 5/27/21.

Accession Number: 20210527-5105.

Comments Due: 5 p.m. ET 6/17/21.

Docket Numbers: ER21-2010-000.

Applicants: Luz Solar Partners Ltd., III.

Description: Tariff Cancellation: Luz Solar Partners Ltd., III Notice of Cancellation of Market-Based Rate Tariff to be effective 5/27/2021.

Filed Date: 5/27/21.

Accession Number: 20210527-5111.

Comments Due: 5 p.m. ET 6/17/21.

Docket Numbers: ER21-2011-000.

Applicants: Luz Solar Partners Ltd., IV.

Description: Tariff Cancellation: Luz Solar Partners Ltd., IV Notice of Cancellation of Market-Based Rate Tariff to be effective 5/28/2021.

Filed Date: 5/27/21.

Accession Number: 20210527-5114.

Comments Due: 5 p.m. ET 6/17/21.

Docket Numbers: ER21-2012-000.

Applicants: Southwest Power Pool, Inc.

Description: § 205(d) Rate Filing: 607R40 Evergy Kansas Central, Inc. NITSA NOA to be effective 5/1/2021.

Filed Date: 5/27/21.

Accession Number: 20210527-5124.

Comments Due: 5 p.m. ET 6/17/21.

Docket Numbers: ER21-2013-000.

Applicants: Luz Solar Partners Ltd., V.

Description: Tariff Cancellation: Luz Solar Partners Ltd., V Notice of Cancellation of Market-Based Rate Tariff to be effective 5/28/2021.

Filed Date: 5/27/21.

Accession Number: 20210527-5129.

Comments Due: 5 p.m. ET 6/17/21.

Docket Numbers: ER21-2014-000.

Applicants: Southern California Edison Company.

Description: Tariff Cancellation: Notice of Termination of Quarantina DSA SA No. 1131 to be effective 7/18/2021.

Filed Date: 5/27/21.

Accession Number: 20210527-5139.

Comments Due: 5 p.m. ET 6/17/21.

Docket Numbers: ER21-2015-000.

Applicants: New York Independent System Operator, Inc., New York State Electric & Gas Corporation.

Description: § 205(d) Rate Filing: Joint 205 SGIA among NYISO, NYSEG, Orangeville Energy SA2562, CEII to be effective 5/20/2021.

Filed Date: 5/27/21.

Accession Number: 20210527-5152.

Comments Due: 5 p.m. ET 6/17/21.

Docket Numbers: ER21-2016-000.

Applicants: Minco Wind V, LLC.

Description: Tariff Cancellation: Minco Wind V, LLC Notice of Cancellation of Market-Based Rate Tariff to be effective 5/28/2021.

Filed Date: 5/27/21.

Accession Number: 20210527-5167.

Comments Due: 5 p.m. ET 6/17/21.

Docket Numbers: ER21-2017-000.

Applicants: Southern California Edison Company.

Description: § 205(d) Rate Filing: Third Amended LGIA Maverick SA No. 98 to be effective 5/28/2021.

Filed Date: 5/27/21.

Accession Number: 20210527-5174.

Comments Due: 5 p.m. ET 6/17/21.

Docket Numbers: ER21-2018-000.

Applicants: Duke Energy Carolinas, LLC.

Description: Tariff Cancellation: DEC—Notice of Cancellation of Service Agreements SA Nos. 46, 166, 153 and 347 to be effective 7/27/2021.

Filed Date: 5/27/21.

Accession Number: 20210527-5259.

Comments Due: 5 p.m. ET 6/17/21.

Docket Numbers: ER21-2019-000.

Applicants: California Independent System Operator Corporation.

Description: Tariff Cancellation: 2021-05-27 Termination of DSHBAOA—Griffith to be effective 6/1/2021.

Filed Date: 5/27/21.

Accession Number: 20210527-5270.

Comments Due: 5 p.m. ET 6/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2021.
Debbie-Anne A. Reese,
Deputy Secretary.

[FR Doc. 2021-11707 Filed 6-2-21; 8:45 am]

BILLING CODE 6717-01-P